DEPARTMENT OF ENERGY

Federal Energy Regulatory Commission

Combined Notice Of Filings #1

Take notice that the Commission received the following electric rate filings:

Docket Numbers: ER13-520-014; ER10-1520-022; ER10-1521-022; ER10-2605-018; ER12-1626-015; ER13-521-014; ER13-1266-056; ER13-1267-014; ER13-1268-014; ER13-1269-014; ER13-1270-014; ER13-1271-014; ER13-1272-014; ER13-1273-014; ER13-1441-014; ER13-1442-014; ER15-2211-053; ER22-1385-016; ER23-674-012; ER23-676-012; ER24-1587-005; ER24-2505-002; ER24-2506-002.

Applicants: Solar Star 4, LLC, Solar Star 3, LLC, AlbertaEx, L.P., BHE Power Watch, LLC, BHE Wind Watch, LLC, BHER Market Operations, LLC., MidAmerican Energy Services, LLC, Solar Star California XX, LLC, Solar Star California XIX, LLC, Vulcan/BN Geothermal Power Company, Salton Sea Power L.L.C., Salton Sea Power Generation Company, Fish Lake Power LLC, Elmore Company, Del Ranch Company, CE Leathers Company, CalEnergy, LLC, Pinyon Pines Wind II, LLC, Topaz Solar Farms LLC, Yuma Cogeneration Associates, Occidental Power Marketing, L.P., Occidental Power Services, Inc., Pinyon Pines Wind I, LLC.

Description: Triennial Market Power Analysis for Southwest Region of Pinyon Pines Wind I, LLC, et al.

Filed Date: 6/30/25.

Accession Number: 20250630-5359.

Comment Date: 5 p.m. ET 8/29/25.

Docket Numbers:ER17-1394-013; ER10-1427-016; ER13-1139-029; ER14-2630-022; ER16-61-008; ER16-63-008; ER16-64-008; ER17-360-008; ER17-361-008; ER17-362-008; ER17-539-007; ER17-540-007; ER19-89-005; ER19-529-023; ER19-1074-023; ER19-1075-023; ER22-398-006; ER22-1627-007; ER24-2467-004.

Applicants: Spanish Peaks Solar LLC, AM Wind Repower LLC, Mesa Wind Power LLC, Brookfield Renewable Energy Marketing US LLC, Brookfield Energy Marketing Inc., Brookfield Renewable Trading and Marketing LP, North Rosamond Solar, LLC, Wildwood Solar II, LLC, Wildwood Solar I, LLC, Rio Bravo Solar II, LLC, Pumpjack Solar I, LLC, Rio Bravo Solar I, LLC, Tallbear Seville LLC, Seville Solar Two, LLC, Seville Solar One LLC, Regulus Solar, LLC, Imperial Valley Solar 1, LLC, Brookfield Energy Marketing LP, 83WI 8me, LLC.

Description: Updated Triennial Market Power Analysis for Southwest Region of 83WI 8me, LLC, et al.

Filed Date: 6/30/25.

Accession Number: 20250630-5358.

Comment Date: 5 p.m. ET 8/29/25.

Docket Numbers: ER18-128-003.

Applicants: 54KR 8ME LLC.

Description: Triennial Market Power Analysis for Southwest Region of 54 KR 8me LLC.

Filed Date: 6/30/25.

Accession Number: 20250630-5356.

Comment Date: 5 p.m. ET 8/29/25.

Docket Numbers: ER19-2822-003; ER20-1014-004; ER20-1015-004; ER20-2458-004; ER21-285-004; ER23-2684-002; ER23-2732-002; ER23-2813-004; ER23-2814-002; ER23-2815-002; ER23-2816-003; ER25-1056-002; ER25-1057-002.

Applicants: Hornshadow Solar 2, LLC, Hornshadow Solar, LLC, Rocket Solar, LLC, Horseshoe Solar, LLC, Elektron Solar, LLC, Castle Solar, LLC, Hunter Solar, LLC, Steel Solar, LLC, Sigurd Solar LLC, Hunter Solar LLC, Cove Mountain Solar 2, LLC, Cove Mountain Solar, LLC, Airport Solar LLC.

Description: Triennial Market Power Analysis and Notice of Change in Status for Northwest Region of Airport Solar LLC, et al.

Filed Date: 6/30/25.

Accession Number: 20250630-5360.

Comment Date: 5 p.m. ET 8/29/25.

Docket Numbers: ER23-2625-002; ER11-1846-014; ER11-1847-014; ER11-1850-014; ER11-2062-031; ER11-2175-009; ER11-2176-008; ER11-2598-017; ER11-3188-009; ER11-3418-011; ER11-4307-032; ER11-4308-032; ER12-224-010; ER12-225-010; ER12-261-031; ER12-2301-009; ER13-2020-014; ER13-2050-014; ER13-2107-014; ER17-764-009; ER17-765-009; ER17-767-009; ER18-1160-005; ER21-2826-004.

Applicants: NRG Curtailment Solutions, Inc., NRG Cottonwood Tenant LLC, Stream Energy Delaware, LLC, Stream Energy Illinois, LLC, Stream Ohio Gas & Electric, LLC, Solar Partners I, LLC, Solar Partners VIII, LLC, Solar Partners II, LLC, Stream Energy New York, LLC, Independence Energy Group LLC, Stream Energy New Jersey, LLC, Stream Energy Columbia, LLC, Reliant Energy Northeast LLC, Green Mountain Energy Company, Xoom Energy, LLC, Stream Energy Maryland, LLC, Gateway Energy Services Corporation, Stream Energy Pennsylvania, LLC, SGE Energy Sourcing, LLC, Energy Plus Holdings LLC, Direct Energy Business, LLC, Direct Energy Marketing Inc., Direct Energy Services, LLC, NRG Business Marketing LLC.

Description: Updated Triennial Market Power Analysis for Southwest Region of NRG Business Marketing LLC, et al.

Filed Date: 6/30/25.

Accession Number: 20250630-5357.

Comment Date: 5 p.m. ET 8/29/25.

Docket Numbers: ER25-1846-002.

Applicants: Midcontinent Independent System Operator, Inc., Entergy Mississippi, LLC.

Description: Tariff Amendment: Entergy Mississippi, LLC submits tariff filing per 35.17(b): 2025-07-03_2nd Amendment to EML Revisions Related to PBOP to be effective 6/1/2025.

Filed Date: 7/3/25.

Accession Number: 20250703-5040.

Comment Date: 5 p.m. ET 7/24/25.

Docket Numbers: ER25-2221-000.

Applicants: PacifiCorp.

Description: Formal Challenge of Idaho Power Company.

Filed Date: 6/27/25.

Accession Number: 20250627-5318.

Comment Date: 5 p.m. ET 7/18/25.

Docket Numbers: ER25-2779-000.

Applicants: PJM Interconnection, L.L.C.

Description: Tariff Amendment: Notice of Cancellation—SA No. 4446 to be effective 3/1/2024.

Filed Date: 7/2/25.

Accession Number: 20250702-5181.

Comment Date: 5 p.m. ET 7/23/25.

Docket Numbers: ER25-2780-000.

Applicants: Tri-State Generation and Transmission Association, Inc.

Description: § 205(d) Rate Filing: Amendment to Rate Schedule FERC No. 50 to be effective 9/1/2025.

Filed Date: 7/2/25.

Accession Number: 20250702-5190.

Comment Date: 5 p.m. ET 7/23/25.

Docket Numbers: ER25-2781-000.

Applicants: PacifiCorp.

Description: § 205(d) Rate Filing: PNGC Constr Agmt Power Meter Collection Coordination (SA No. 1167) to be effective 7/4/2025.

Filed Date: 7/3/25.

Accession Number: 20250703-5023.

Comment Date: 5 p.m. ET 7/24/25.

Docket Numbers: ER25-2782-000.

Applicants: Southwest Power Pool, Inc.

Description: Tariff Amendment: 3095R3 Missouri River Energy Services NITSA and NOA Cancellation to be effective 4/1/2025.

Filed Date: 7/3/25.

Accession Number: 20250703-5027.

Comment Date: 5 p.m. ET 7/24/25.

Docket Numbers: ER25-2783-000.

Applicants: DTE Electric Company.

Description: § 205(d) Rate Filing: Rate Schedule No. 48 Interconnection and Parallel Operating Agreement to be effective 8/1/2025.

Filed Date: 7/3/25.

Accession Number: 20250703-5028.

Comment Date: 5 p.m. ET 7/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 3, 2025.
Debbie-Anne A. Reese,
Secretary.

[FR Doc. 2025-12753 Filed 7-8-25; 8:45 am]

BILLING CODE 6717-01-P